DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) will file the plat of survey of the lands described below in the BLM Idaho State Office, Boise, Idaho, 30 days from the date of publication in the Federal Register.

FOR FURTHER INFORMATION CONTACT: Bureau of Land Management, 1387 South Vinnell Way, Boise, Idaho, 83709-1657.

SUPPLEMENTARY INFORMATION: This survey was executed at the request of the Bureau of Land Management to meet certain administrative and management purposes. The lands we surveyed are:

The plat representing the entire record of the survey of the 2003-2004 meanders of Hog Island, in the Snake River, designated as Tract 37, in T. 10 S., R. 23 E., Boise Meridian, Idaho, was accepted February 2, 2005.

Dated: February 8, 2005.
Stanley G. French,
Chief Cadastral Surveyor for Idaho.

[FR Doc. 05-2763 Filed 2-11-05; 8:45 am]

BILLING CODE 4310-GG-P